DEPARTMENT OF HOUSING AND URBAN DEVELOPMENT

[Docket No. FR-5889-FA-02]

Tribal HUD-VA Supportive Housing Program Awards, Fiscal Year 2015

AGENCY: Office of Native American Programs, Office of the Assistant Secretary for Public and Indian Housing, HUD.

ACTION: Announcement of funding awards.

SUMMARY: In accordance with Section 102(a)(4)(C) of the Department of Housing and Urban Development Reform Act of 1989, this announcement notifies the public of funding decisions made by the Department under the Tribal HUD-VA Supportive Housing Program (Tribal HUD-VASH) for Fiscal Year 2015. This announcement contains the names of the grantees and amounts of the awards made available by HUD.

FOR FURTHER INFORMATION CONTACT: Randall R. Akers, Acting Deputy Assistant Secretary for Native American Programs, Office of Public and Indian Housing, Department of Housing and Urban Development, 451 Seventh Street SW., Room 4126, Washington, DC 20410-5000, telephone, (202) 402-7598 (this is not a toll-free number). Hearing or speech-impaired individuals may access this number via TTY by calling the toll-free Federal Relay Service at 1-800-877-8339.

SUPPLEMENTARY INFORMATION: The Consolidated and Further Continuing Appropriations Act, 2015 (Pub. L. 113-235, approved December 16, 2014) (“2015 Appropriations Act”), authorizes funding for a demonstration program in order to expand the HUD-VA Supportive Housing Program (HUD-VASH) into Indian Country. The Tribal HUD-VASH Program does this by combining Housing Choice Voucher (HCV) rental assistance with Case Management and clinical services provided by or through the VA through Veterans Administration Medical Centers to Native American veterans that are Homeless or At Risk of Homelessness living on or near a reservation or other Indian areas. The program was announced by a notice posted on HUD's Web site on October 19, 2015, and published in the Federal Register on October 21, 2015 (80 FR 63822). The notice announced $4 million allowed for Tribal HUD-VASH awards; however, additional funds became available and awarded. Applicants were invited to apply for the demonstration program, and were evaluated based on the criteria contained in the notice.

For Fiscal Year 2015, 26 awards totaling $5,878,516 were awarded to 26 tribes/tribally designated housing entities nationwide. In accordance with Section 102(a)(4)(C) of the Department of Housing and Urban Development Reform Act of 1989 (103 Stat. 1987, 42 U.S.C. 3545), the Department is publishing the names of the grantees and the amounts of the awards in Appendix A to this document.

Dated: February 17, 2016.
Lourdes Castro Ramirez,
Principal Deputy Assistant Secretary for Public and Indian Housing.

Appendix A—Fiscal Year 2015 Tribal HUD VA Supportive Housing Awards

Recipient | City | State | Amount ($)
Cook Inlet Housing Authority | Anchorage | Alaska | 313,058
Tlingit-Haida Regional Housing Authority | Juneau | Alaska | 324,749
The Association of Village Council Presidents Regional Housing Authority | Bethel | Alaska | 391,740
Navajo Housing Authority | Window Rock | Arizona | 268,835
Hopi Housing Authority | Polacca | Arizona | 210,432
San Carlos Apache Tribe of the San Carlos Reservation, Arizona | San Carlos | Arizona | 233,100
Tohono O'odham Nation of Arizona | Sells | Arizona | 302,936
Leech Lake Housing Authority | Cass Lake | Minnesota | 159,022
White Earth Reservation Housing Authority | White Earth | Minnesota | 142,980
Blackfeet Tribe of the Blackfeet Indian Reservation of Montana | Browning | Montana | 229,171
Zuni Tribe of the Zuni Reservation, New Mexico | Zuni | New Mexico | 123,288
Lumbee Tribe of North Carolina | Pembroke | North Carolina | 185,604
Turtle Mountain Band of Chippewa Indians | Belcourt | North Dakota | 173,942
Standing Rock Housing Authority | Fort Yates | North Dakota | 234,178
Cherokee Nation of Oklahoma | Tahlequah | Oklahoma | 194,405
Cheyenne-Arapaho Tribes | Concho | Oklahoma | 272,016
Choctaw Nation of Oklahoma | Hugo | Oklahoma | 246,992
Osage Nation of Oklahoma | Pawhuska | Oklahoma | 265,438
Muscogee(Creek) Nation, Oklahoma | Okmulgee | Oklahoma | 216,566
Warm Springs Housing Authority | Warm Springs | Oregon | 240,237
Oglala Sioux Tribe of the Pine Ridge Reservation, South Dakota | Pine Ridge | South Dakota | 190,898
Sicangu Wicoti Awayankapi Corporation | Rosebud | South Dakota | 183,011
Yakama Nation Housing Authority | Wapato | Washington | 145,283
Spokane Indian Housing Authority | Spokane | Washington | 245,809
Colville Indian Housing Authority | Nespelem | Washington | 179,892
Oneida Tribe of Indians of Wisconsin | Oneida | Wisconsin | 204,934

[FR Doc. 2016-04627 Filed 3-1-16; 8:45 am]

BILLING CODE 4210-67-P